DEPARTMENT OF HOUSING AND URBAN DEVELOPMENT

[Docket No. FR-4665-N-19]

Conference Call Meeting of the Manufactured Housing Consensus Committee

AGENCY: Office of the Assistant Secretary for Housing-Federal Housing Commissioner, HUD.

ACTION: Notice of upcoming meeting via conference call.

SUMMARY: This notice sets forth the schedule and proposed agenda of an upcoming meeting of the Manufactured Housing Consensus Committee (the Committee) to be held via telephone conference call. This meeting is open to the general public. Members of the public wishing to participate may do so by following the instructions below.

DATES: The conference call is scheduled for Wednesday, September 1, 2004, from 2 p.m. to 4 p.m. eastern time.

ADDRESSES: Information concerning the conference call can be obtained from the Department's Consensus Committee Administering Organization, the National Fire Protection Association (NFPA). Interested parties can log onto NFPA's Web site for instructions concerning how to participate, and for contact information for the conference call: http://www.nfpa.org/ECommittee/HUDManufacturedHousing/hudmanufacturedhousing.asp.

Alternately, interested parties may contact Jill McGovern of NFPA by phone at (617) 984-7404 (this is not a toll-free number) for conference call information.

FOR FURTHER INFORMATION CONTACT: William W. Matchneer III, Administrator, Office of Manufactured Housing Programs, Office of the Deputy Assistant Secretary for Regulatory Affairs and Manufactured Housing, Department of Housing and Urban Development, 451 7th Street, SW., Washington, DC 20410-8000, telephone (202) 708-6409 (this is not a toll-free number). Persons who have difficulty hearing or speaking may access this number through TTY by calling the toll-free Federal Information Relay Service at (800) 877-8339.

SUPPLEMENTARY INFORMATION: Notice of this meeting is provided in accordance with sections 10(a) and (b) of the Federal Advisory Committee Act (5 U.S.C. App. 2) and 41 CFR 102-3.150. The Manufactured Housing Consensus Committee is established under section 604(a)(3) of the National Manufactured Housing Construction and Safety Standards Act of 1974, as amended, 42 U.S.C. 4503(a)(3). The Committee is charged with providing recommendations to the Secretary to adopt, revise, and interpret manufactured home construction and safety standards and procedural and enforcement regulations, and with developing and recommending proposed model installation standards to the Secretary.

The purpose of this conference call meeting is to permit the Committee, at its request, to review and make further recommendations to the Secretary regarding a proposed rule that would establish Model Manufactured Home Installation Standards pursuant to statute. The exceptional circumstances permitting less than 15 calendar days' notice of the meeting are that it is necessary to have the meeting on this date, which has been agreed to by the Committee, to permit the Committee to timely consider the proposed rule.

Tentative Agenda

A. Roll call.

B. Welcome and opening remarks.

C. Full Committee meeting and take actions on a draft of a proposed rule to establish the Model Manufactured Home Installation Standards.

D. Adjournment.

Dated: August 18, 2004.
Sean Cassidy,
General Deputy Assistant Secretary for Housing.

[FR Doc. 04-19380 Filed 8-19-04; 4:23 pm]

BILLING CODE 4210-27-P